ENVIRONMENTAL PROTECTION AGENCY

[FRL-6700-6]

Agency Information Collection Activities: Proposed Collection; Comment Request; Establishing No-Discharge Zones Under Clean Water Act Section 312

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Establishing No-Discharge Zones Under Clean Water Act section 312, EPA ICR Number 1791.03, OMB Control Number 2040-0187; current expiration date 10/31/2000. This ICR will consolidate two ICRs associated with the establishment of no-discharge zones under CWA section 312 (EPA ICR Numbers 1791.01 to 1791.02). Before submitting the ICR to OMB for review and approval, EPA is soliciting comments on specific aspects of the proposed information collection as described below.

DATES: Comments must be submitted on or before July 18, 2000.

ADDRESSES: A copy of this ICR can be obtained from and written comments may be submitted to James C. Woodley, Marine Pollution Control Branch, Oceans and Coastal Protection Division, U.S. Environmental Protection Agency, 4504F, Ariel Rios, 1200 Penn. Ave., NW, Washington, DC 20460. In the alternative, EPA will accept comments electronically. Comments should be sent to woodley.james@epa.gov. EPA will print electronic comments in hard-copy paper form for the official administrative record.

FOR FURTHER INFORMATION CONTACT: James C. Woodley, Oceans and Coastal Protection Division, U.S. Environmental Protection Agency, 4504F, Ariel Rios, 1200 Penn. Ave., NW, Washington, DC 20460, (202) 260-1952.

SUPPLEMENTARY INFORMATION: Affected entities: Entities potentially affected by this action are State, local, and tribal governments.

Title: Establishing No-Discharge Zones Under Clean Water Act section 312 (OMB Control Number 2040-0187; EPA ICR Number 1791.03) expiring 10/31/2000.

Abstract: (A) Sewage No-discharge Zones: The need for EPA to obtain information for the establishment of no-discharge zones (NDZs) for vessel sewage in State waters stems from CWA sections 312(f)(3), (f)(4)(A), and (f)(4)(B), and subsequent regulations at 40 CFR 140.4(a-c). No-discharge zones are established to provide State and local governments with additional protection of waters from treated or untreated vessel sewage. There are 3 ways in which NDZs for vessel sewage can be established. This ICR discusses the information requirements associated with the establishment of NDZs for vessel sewage. The responses to this collection of information are required to obtain the benefit of a sewage NDZ (see 33 U.S.C. 1322). The information collection activities discussed in this ICR do not require the submission of any confidential information.

(B) UNDS No-discharge Zones: Under section 312(n) of the Clean Water Act (“Uniform National Discharge Standards for Vessels of the Armed Forces” or “UNDS”) no-discharge zones (“NDZs”) for discharges from Armed Forces vessels may be established by either State prohibition or EPA prohibition following the procedures in 40 CFR part 1700. UNDS also provides that the Governor of any State may petition EPA and the Secretary of Defense to review any determination or standard promulgated under the UNDS program if there is significant new information that could reasonably result in a change to the determination or standard. This ICR discusses the information that will be required from a State if it decides to establish a NDZ by State prohibition or apply for a NDZ by EPA prohibition, and the information that will be required from a State if it decides to submit a petition for review. The re-sponses to this collection of information are required to obtain the benefit of an UNDS NDZ or a review of an UNDS determination or standard (see 33 U.S.C. 1322(n)). The information collection activities discussed in this ICR do not require the submission of any confidential information.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Table 1 shows the annual respondent burdens for establishing sewage no-discharge zones as 1335 total hours. The average burden per respondent per year is 111.25 hours. Table 2 shows the annual respondent burdens for establishing UNDS no-discharge zones and petitioning for review of an UNDS determination or standard (957.50 hours total). The average burden per respondent per year is 160 hours. Table 3 shows the annual respondent burdens for all of CWA section 312 (2292.5 hours total). The average burden per respondent per year is 127 hours. The estimates include time for gathering information, and preparing and submitting requests. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: May 5, 2000.
Robert H. Wayland III,
Director, Office of Wetlands, Oceans and Watersheds.

Table 1.—Sewage NDZ Total Estimated Respondent (State Agency) Burden and Cost Summary
| Number of respondents | Number of activities/year per respondent | Total number of hours per year | Total labor cost per year ($) | Total annual capital costs ($) | Total annual O&M costs ($)
Sewage No-Discharge Zone by State Prohibition [40 CFR 140.4(a)] | 8 | 1 | 873 | 29,032.00 | 0.00 | 1200.00
Sewage No-Discharge Zone by EPA Prohibition [40 CFR 140.4(b)] | 2 | 1 | 231 | 7,410.00 | 0.00 | 300.00
Drinking Water No-Discharge Zone [40 CFR 140.4(c)] | 2 | 1 | 231 | 7,410.00 | 0.00 | 300.00
Total | 12 |  | 1335 | 43,852.00 | 0.00 | 1800.00

Table 2.—UNDS Total Estimated Respondent (State Agency) Burden and Cost Summary
| Number of respondents | Number of activities/year per respondent | Total number of hours per year | Total labor cost per year ($) | Total annual capital costs ($) | Total annual O&M costs ($)
UNDS No-Discharge Zone by State Prohibition [40 CFR 1700.9] | 4 | 1 | 717.00 | 23,815.12 | 0.00 | 600.00
UNDS No-Discharge Zone by EPA Prohibition [40 CFR 1700.10] | 1 | 1 | 194.25 | 6,477.58 | 0.00 | 150.00
UNDS Petition for Review [40 CFR 1700.12] | 1 | 1 | 46.25 | 1,578.27 | 0.00 | 150.00
Total | 6 |  | 957.50 | 31,870.97 | 0.00 | 900.00

Table 3.—Total CWA Section 312 Estimated Respondent (State Agency) Burden and Cost Summary
| Number of respondents | Number of activities per year | Total number of hours per year | Total labor cost per year ($) | Total annual capital costs ($) | Total annual O&M costs ($)
Total | 18 | 18 | 2292.5 | 75,722.97 | 0.00 | 2700

[FR Doc. 00-12647 Filed 5-18-00; 8:45 am]

BILLING CODE 6560-50-P